SMALL BUSINESS ADMINISTRATION

[Declaration of Disaster #3343]

State of Ohio

Scioto County and the contiguous counties of Adams, Jackson, Lawrence and Pike in the State of Ohio; and Greenup and Lewis Counties in the Commonwealth of Kentucky constitute a disaster area due to damages caused by severe thunderstorms, high winds and flooding which began on May 17, 2001 and continued through May 26, 2001. Applications for loans for physical damage may be filed until the close of business on August 3, 2001 and for economic injury until the close of business on March 4, 2002 at the address listed below or other locally announced locations:

U.S. Small Business Administration, Disaster Area 2 Office, One Baltimore Place, Suite 300, Atlanta, GA 30308

The interest rates are:

For Physical Damage

Homeowners with Credit Available Elsewhere: 6.625%

Homeowners without Credit Available Elsewhere: 3.312%

Businesses with Credit Available Elsewhere: 8.000%

Businesses and Non-Profit Organizations Without Credit Available Elsewhere: 4.000%

Others (Including Non-Profit Organizations) With Credit Available Elsewhere: 7.125%

For Economic Injury

Businesses and Small Agricultural Cooperatives Without Credit Available Elsewhere: 4.000%

The number assigned to this disaster for physical damage is 334311 for Ohio and 334411 for Kentucky. The number assigned to this disaster for economic injury is 9L8000 for Ohio and 9L8100 for Kentucky.

(Catalog of Federal Domestic Assistance Program Nos. 59002 and 59008)

Dated: June 4, 2001.
John Whitmore,
Acting Administrator.

[FR Doc. 01-14750 Filed 6-11-01; 8:45 am]

BILLING CODE 8025-01-P